DEPARTMENT OF THE INTERIOR

Bureau of Land Management

[NV-910-02-0777XX]

Notice of Public Meeting; Sierra Front/Northwestern Great Basin Resource Advisory Council, Northeastern Great Basin Resource Advisory Council, and Mojave-Southern Great Basin Resource Advisory Council

AGENCY: Bureau of Land Management, Interior.

ACTION: Combined Resource Advisory Council meeting.

SUMMARY: In accordance with the Federal Land Policy and Management Act and the Federal Advisory Committee Act of 1972 (FACA), the Department of the Interior, Bureau of Land Management (BLM) Council meetings will be held as indicated below.

DATES: The three councils will meet on Thursday, October 17 from 8 a.m. to 5 p.m. and Friday, October 18, 2002, from 8 a.m. to 3 p.m., in the Conference Center at John Ascuaga's Nugget, 1100 Nugget Avenue, Sparks, Nevada 89502. On October 18, the Sierra Front/Northwestern Great Basin Resource Advisory Council will convene at 7:30 a.m. in joint session with BLM Northeast California Resource Advisory Council.

FOR FURTHER INFORMATION CONTACT: Jo Simpson, Chief, Office of Communications, BLM Nevada State Office, 1340 Financial Blvd., Reno, Nevada, telephone (775) 861-6586; or BLM Public Affairs Specialist Debra Kolkman at telephone (775) 289-1946.

SUPPLEMENTARY INFORMATION: The 15-member councils advise the Secretary of the Interior, through the Bureau of Land Management, on a variety of planning and management issues associated with public land management in Nevada. Agenda topics include a presentation and discussion of accomplishments during 2002 and the outlook for 2003 for the BLM in Nevada; opening remarks and closeout reports of the three Resource Advisory Councils (RACs); discussion of nominations of proposed projects to be funded by the Southern Nevada Public Land Management Act of 1998; breakout meetings of each group category; breakout meetings of the three RACs; discussion and approval of Off-Highway Vehicle (OHV) guidelines; mine closure and bonding issues in Nevada; setting of schedules for meetings of the Individual RACs for the coming year, and other issues members of the Councils may raise. In the October 18 joint session, the Sierra Front/Northwestern Great Basin and Northeast California council members will hear a report from their National Conservative Area (NCA) subcommittee, which as been assisting the BLM with development of a draft management plan for the Black Rock Desert-High Rock Canyon Emigrant Trails National Conservation Area. The council members will also hear a briefing on NCA management from the Black Rock-High Rock NCA staff.

All meetings are open to the public. The public may present written comments to the three RAC groups or the individual RACs. The public comment period for the council meeting will be at 3 p.m. on Thursday, October 17. Individuals who plan to attend and need further information about the meeting or need special assistance such as sign language interpretation or other reasonable accommodations, should contact Debra Kolkman at the Nevada State Office, BLM, 1340 Financial Blvd., Reno, Nevada, telephone (775) 289-1946.

Dated: September 4, 2002.
Jean Rivers-Council,
Acting State Director, Nevada.

[FR Doc. 02-23189 Filed 9-11-02; 8:45 am]

BILLING CODE 4310-HC-M